DEPARTMENT OF LABOR

Employment and Training Administration

[TA-W-71,436]

Fortis Plastics, LLC, Boonville, MS; Notice of Termination of Investigation

Pursuant to Section 223 of the Trade Act of 1974, as amended, an investigation was initiated in response to a worker petition filed on June 26, 2009 on behalf of workers of Fortis Plastics, LLC, Boonville, Mississippi.

The petition regarding the investigation has been deemed invalid because it was filed by only one worker, not three as required by the statute. Consequently, the investigation has been terminated.

Signed at Washington, DC, this 27th day of July 2009.
Richard Church,
Certifying Officer, Division of Trade Adjustment Assistance.

[FR Doc. E9-20462 Filed 8-25-09; 8:45 am]

BILLING CODE 4510-FN-P